SMALL BUSINESS ADMINISTRATION

13 CFR Part 124

8(a) Business Development/Small Disadvantaged Business Status Determinations

AGENCY: Small Business Administration.

ACTION: Proposed rule.

SUMMARY: In order to make the award of contracts under the 8(a) Business Development program a more attractive procurement alternative in today's streamlined Federal Government procurement environment, the Small Business Administration (SBA) proposes to amend its current 8(a) regulations to permit SBA to delegate to procuring agencies its authority to accept requirements for the 8(a) program.

DATES: Comments must be submitted on or before January 8, 2001.

ADDRESSES: Written comments should be addressed to Linda Williams, Associate Administrator for Policy, Planning, and Liaison, 409 Third Street, SW., Washington, DC 20416.

FOR FURTHER INFORMATION CONTACT: Delorice Ford, Associate Administrator for 8(a) Business Development, at (202) 205-6416.

SUPPLEMENTARY INFORMATION: The Federal Streamlining Act of 1994 dramatically changed the way the Federal Government buys its goods and services. In today's changing procurement environment, there are increasingly larger contract opportunities that often are not suitable for small businesses to perform as prime contractors. Agencies are also using streamlined procurement practices such as multiple award contracts, Government-Wide Acquisition Contracts (GWACs), Federal supply schedules, and credit card purchases. At the same time, the 8(a) Business Development (BD) program contract mechanisms have not been modernized to successfully link-up with the acquisition vehicles authorized by procurement reform. The impact is fewer contract opportunities for 8(a) Program Participants.

In order to make the award of contracts under the 8(a) BD program a more attractive procurement alternative and to strengthen the effectiveness of the 8(a) BD program, SBA proposes to make the offer and acceptance of requirements for award through the 8(a) BD program simpler and faster. Specifically, SBA proposes to amend its current 8(a) regulations to permit SBA to delegate to procuring agencies its authority to accept requirements for the 8(a) program. This change would reduce the administrative burden on procuring agencies and allow SBA to refocus its efforts on providing business development, including contract assistance, to Program Participants. SBA believes that this change would make the 8(a) program more attractive by reducing the 8(a) procurement leadtime by up to twelve days.

SBA would continue to determine eligibility for the award of 8(a) contracts, but would do so on an annual rather than on a contract-by-contract basis. SBA would maintain the listing of firms that are eligible for the award of 8(a) contracts in PRO-Net. In addition, SBA would require Program Participants to notify SBA of any changes in ownership, control, social disadvantage or economic disadvantage in order to ensure that PRO-Net is kept current regarding any firm's continued eligibility for 8(a) awards. A procuring agency could accept SBA's PRO-Net designation and accept a specific 8(a) requirement on behalf of a Program Participant so determined to be eligible.

By delegating its authority to accept requirements for award through the 8(a) program to procuring activities, SBA could better meet the business development aspects of the 8(a) BD program and would be in a better position to comply with a recent recommendation in the July 2000 General Accounting Office (GAO) report titled, SBA Could Better Focus its 8(a) Program to Help Firms Obtain Contracts (GAO/RCED-00-196). GAO recommended that SBA work with its district offices to place priority on helping inform Program Participants about contracting opportunities, assisting Participants with contracts at Federal agencies, and becoming more involved with Participants as they seek and negotiate contracts. The proposed change would allow SBA to use the resources currently expended on accepting requirements and determining eligibility on a contract-by-contract basis to provide much needed business development assistance to Participants, including training on the Federal contracting process, to enhance their competitive viability.

Compliance With Executive Orders 13132, 12988 and 12866, the Regulatory Flexibility Act (5 U.S.C. 601 et seq.), and the Paperwork Reduction Act (44 U.S.C. Chapter 3501 et seq.)

SBA certifies that this rule is not a “significant” regulatory action under Executive Order 12866.

SBA has determined that this rule would not have a significant economic impact on a substantial number of small entities within the meaning of the Regulatory Flexibility Act, 5 U.S.C. SS 601-612. The rule would not impose any requirements and would not otherwise affect the kinds of procurement requirements that can be available for award through the 8(a) BD program. It would merely make a procedural change to SBA's current regulations that would authorize SBA to delegate its authority to procuring agencies where appropriate.

For the purpose of the Paperwork Reduction Act, 44 U.S.C. Ch. 35, SBA certifies that this rule would not impose new reporting or record keeping requirements.

For purposes of Executive Order 13132, SBA certifies that this rule does not have any federalism implications warranting the preparation of a Federalism Assessment.

For purposes of Executive Order 12978, SBA certifies that this rule is drafted, to the extent practicable, in accordance with the standards set forth in section 2 of this order.

List of Subjects in 13 CFR Part 124

Government procurement; Hawaiian natives; Minority businesses; Reporting and recordkeeping requirements; Technical assistance.

Accordingly, for the reasons set forth above, SBA proposes to amend Title 13, Code of Federal Regulations (CFR), as follows:

PART 124—[AMENDED]

1. The authority citation for 13 CFR part 124 would continue to read as follows:

Authority: 15 U.S.C. 634(b)(6), 636(j), 637(a), 637(d) and Pub. L. 99-661, Pub. L. 100-656, sec. 1207, Pub. L. 101-37, Pub. L. 101-574, and 42 U.S.C. 9815.

2. Section 124.502 would be amended by adding new paragraph (d) to read as follows:

§ 124.502 How does an agency offer a procurement to SBA for award through the 8(a) BD program?

* * * * *

(d) Where SBA has delegated its authority to accept requirements for award through the 8(a) BD program to a procuring activity, the procuring activity need not send an offering letter to SBA. In such a case, the procuring activity must ensure that the information set forth in paragraph (c) of this section is contained in its contracting file.

3. Section 124.503(i) would be revised to read as follows:

§ 124.503 How does SBA accept a procurement for award through the 8(a) BD program?

* * * * *

(i) Delegation of acceptance authority to procuring activities. (1) SBA may delegate its authority to accept requirements for award through the 8(a) BD program to procuring activities where appropriate.

(2) Where SBA delegates its authority to accept requirements for award through the 8(a) BD program to a procuring activity, the procuring activity may rely on SBA's determination that a particular Program Participant is eligible for award as set forth in Pro-Net.

(3) Where SBA has delegated its 8(a) contract execution authority to a procuring activity but has not delegated its authority to accept requirements for award through the 8(a) BD program to such activity, the procuring activity must still offer and SBA must still accept all requirements intended to be awarded as 8(a) contracts, except as provided in paragraph (a)(4)(i) of this section.

Dated: November 2, 2000.
Aida Alvarez,
Administrator.

[FR Doc. 00-28584 Filed 11-7-00; 8:45 am]

BILLING CODE 8025-01-P